SURFACE TRANSPORTATION BOARD

[Docket No. AB 290 (Sub-No. 381X)]

Norfolk Southern Railway Company—Abandonment Exemption—in Hamilton County, Ohio

On April 22, 2016, Norfolk Southern Railway Company (NSR) filed with the Surface Transportation Board (Board) a petition under 49 U.S.C. 10502 for exemption from the prior approval requirements of 49 U.S.C. 10903 to abandon approximately 4.10 miles of rail line extending from milepost CT 3.7 to milepost CT 7.8 in Hamilton County, Ohio (the Line). The Line traverses U.S. Postal Zip Codes 45207, 45212, 45208, 45209, 45226, and 45227.

According to NSR, no traffic has moved over the Line in more than five years. NSR further states that there is no potential for new traffic. NSR seeks to abandon the Line and sell the property to the City of Cincinnati (City) for a public redevelopment project. NSR states that the City is undertaking a plan that would reduce/reroute vehicular traffic, create greenways, and provide alternative modal access to five major development sites, including sites at Xavier University and near Uptown. NSR asserts that the City would take ownership of, and assume responsibility for, the safety and maintenance of the 10 bridges on the Line.

In addition to an exemption from the provisions of 49 U.S.C. 10903, NSR also seeks an exemption from the offer of financial assistance (OFA) procedures of 49 U.S.C. 10904. In support, NSR states that the Line is needed for a public purpose, as it is of critical significance to the City's redevelopment plans. NSR further asserts that there is no overriding public need for continued freight rail service. NSR's request for exemption from § 10904 will be addressed in the final decision.

According to NSR, the Line does not contain federally granted rights-of-way. Any documentation in NSR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by August 10, 2016.

Any OFA under 49 CFR 1152.27(b)(2) to subsidize continued rail service will be due by August 19, 2016, or 10 days after service of a decision granting the petition for exemption, whichever occurs first. Each OFA must be accompanied by a $1,600 filing fee. See 49 CFR 1002.2(f)(25).

All interested persons should be aware that, following abandonment, the Line may be suitable for other public use, including interim trail use. Any request for a public use condition under 49 CFR 1152.28 or for interim trail use/rail banking under 49 CFR 1152.29 will be due no later than June 1, 2016. Each interim trail use request must be accompanied by a $300 filing fee. See 49 CFR 1002.2(f)(27). However, NSR states that, because it seeks abandonment to allow the City to purchase the land for a public use, NSR is unwilling to negotiate interim trail use/rail banking.

All filings in response to this notice must refer to Docket No. AB 290 (Sub-No. 381X) and must be sent to: (1) Surface Transportation Board, 395 E Street SW., Washington, DC 20423-0001; and (2) William A Mullins, Baker & Miller PLLC, 2401 Pennsylvania Ave. NW., Suite 300, Washington, DC 20037. Replies to the petition are due on or before June 1, 2016.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in abandonment proceedings normally will be made available within 60 days of the filing of the petition. The deadline for submission of comments on the EA generally will be within 30 days of its service.

Board decisions and notices are available on our Web site at “WWW.STB.DOT.GOV.”

Decided: May 9, 2016.
By the Board, Rachel D. Campbell, Director, Office of Proceedings.
Jeffrey Herzig,
Clearance Clerk.

[FR Doc. 2016-11189 Filed 5-11-16; 8:45 am]

BILLING CODE 4915-01-P